DEPARTMENT OF HEALTH AND HUMAN SERVICES

Centers for Disease Control and Prevention

[30 Day-15-15AOX]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Harmful Algal Bloom Illness Surveillance System (HABISS)—NEW—National Center for Emerging and Zoonotic Infectious Diseases, Centers for Disease Control and Prevention (CDC).

Background and Brief Description

The National Center for Emerging and Zoonotic Infectious Diseases (NCEZID) is requesting approval for surveillance activities through Harmful Algal Bloom-related Illness Surveillance System (HABISS). HABISS data surveillance was previously covered under OMB Control No. 0920-0004. Previous Harmful Algal Bloom (HAB) surveillance under HABISS ceased due to defunding. NCEZID is now managing the HAB surveillance module. Surveillance through HABISS is now a priority within NCEZID due to the Great Lakes Restorative Initiative.

The goal of the Harmful Algal Bloom-related Illness Surveillance System (HABISS) is to receive data on harmful algal blooms (HABs) and human and animal illnesses related to HAB exposures. Data reported to HABISS will be accessible to state health departments, federal partners and other stakeholders to better characterize HABs and single human and animal illness related to HAB exposures and to inform future prevention efforts.

Data will be collected electronically, with data elements collected via the National Outbreak Reporting System (NORS). Single human and animal illnesses related to HAB exposures, and environmental data about HABs will be voluntarily reported by state agencies. The data collected will be analyzed and presented through summaries and reports.

The total burden is 57 hours.

Estimated Annualized Burden Hours
Type of respondents | Form name | Number of respondents | Number of responses per respondent | Average burden per response (in hrs.)
State Epidemiologists | Harmful Algal Bloom Illness Surveillance System (HABISS) data elements (electronic, year-round) | 57 | 3 | 20/60

Leroy A. Richardson,
Chief, Information Collection Review Office, Office of Scientific Integrity, Office of the Associate Director for Science, Office of the Director, Centers for Disease Control and Prevention.

[FR Doc. 2015-24029 Filed 9-21-15; 8:45 am]

BILLING CODE 4163-18-P